DEPARTMENT OF THE TREASURY

Internal Revenue Service

AGENCY: Internal Revenue Service (IRS), Treasury.

ACTION: Notice and request for comments.

SUMMARY: The Department of the Treasury—IRS, in accordance with Title XI. Section 11144 of the Safe, Accountable, Flexible, Efficient Transportation Equity Act: a Legacy for Users (SAFETEA-LU) invites the general public and other Federal and state agencies to take this opportunity to comment on and have their comments considered in the studies mandated by this section.

DATES: Written comments should be received on or before February 7, 2006 to be assured of consideration.

ADDRESSES: Direct all written correspondence to Thomas P. Colaiezzi, Chief, SB/SE Research-PHL, Internal Revenue Service, 600 Arch Street, Room 7204, Philadelphia, PA 19106.

FOR FURTHER INFORMATION CONTACT: Requests for additional information or copies of the SAFETEA-LU sections should be directed to the address listed in the ADDRESSES section in this document or via e-mail to Thomas.P.Colaiezzi@irs.gov.

SUPPLEMENTARY INFORMATION: Abstract: Title XI, section 11144 of SAFETEA-LU, enacted on August 10, 2005, directs the Secretary of the Treasury (Secretary) to study the use by trucks of highway motor fuel that is not used in the propulsion of the vehicle. This will include vehicles carrying equipment that is unrelated to the transportation function of the vehicle and also where non-transportation equipment is run by a separate motor. The Secretary is also proposing options for implementing exemptions from tax for fuel used in non-transportation uses, but only if the Secretary determines such exemptions are administratively feasible. In addition, the Secretary is estimating the amount of fuel consumed and pollutants emitted by trucks due to long-term idling of diesel engines, and reporting on the cost of reducing long-term idling through various technologies.

Affected Public: Businesses that use, produce, or distribute diesel fuel or other products referenced in this section. Also affected are state agencies that impose taxes on diesel fuels.

Thomas P. Colaiezzi,
Chief, Small Business/Self Employed Research.

[FR Doc. E5-7155 Filed 12-8-05; 8:45 am]

BILLING CODE 4830-01-P